DEPARTMENT OF COMMERCE

Foreign-Trade Zones Board

[Order No. 1252]

Expansion of Foreign-Trade Zone 191, Palmdale, CA

Pursuant to its authority under the Foreign-Trade Zones Act of June 18, 1934, as amended (19 U.S.C. 81a-81u), the Foreign-Trade Zones Board (the Board) adopts the following Order:

Whereas, the City of Palmdale, grantee of Foreign-Trade Zone 191, submitted an application to the Board for authority to expand FTZ 191 to include a site at the California City Airport Industrial Park (40 acres) in California City, California (Site 10), adjacent to the Los Angeles-Long Beach Customs port of entry (FTZ Docket 20-2002; filed 4/16/02);

Whereas, notice inviting public comment was given in the Federal Register (67 FR 20086, April 24, 2002) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to expand FTZ 191 is approved, subject to the Act and the Board's regulations, including section 400.28.

Signed at Washington, DC, this 4th day of November, 2002.
Faryar Shirzad,
Assistant Secretary of Commerce for Import Administration, Alternate Chairman, Foreign-Trade Zones Board.
Attest:
Dennis Puccinelli,
Executive Secretary.

[FR Doc. 02-29343 Filed 11-18-02; 8:45 am]

BILLING CODE 3510-DS-P